DEPARTMENT OF ENERGY

Federal Energy Regulatory Commission

[Project No. 14702-000]

Twain Resources, LLC; Notice of Preliminary Permit Application Accepted for Filing and Soliciting Comments, Motions To Intervene, and Competing Applications

On August 25, 2015, Twain Resources, LLC, filed an application for a preliminary permit, pursuant to section 4(f) of the Federal Power Act (FPA), proposing to study the feasibility of the Scheelite Water Power Project (Scheelite Project or project) to be located along Pine Creek, near the City of Bishop, in Inyo County, California. The sole purpose of a preliminary permit, if issued, is to grant the permit holder priority to file a license application during the permit term. A preliminary permit does not authorize the permit holder to perform any land-disturbing activities or otherwise enter upon lands or waters owned by others without the owners' express permission.

The proposed project would consist of the following: (1) An intake receiving the water discharge from the Tungstar Redux Water Power Project; (2) an18-inch-diameter, approximately 6,500-foot-long steel penstock, conveying water to; (3) a powerhouse containing a single 810-kilowatt impulse turbine and an 840 kilovolt-ampere generator; (4) a new substation at the powerhouse; (5) an approximately 600-foot-long, 12-kilovolt (kV) transmission line connecting the substation to a 12-kV California Edison-owned transmission line; and (6) appurtenant facilities. The estimated annual generation of the Scheelite Project would be 4,860 megawatt-hours.

Applicant Contact: Mr. Doug Hicks, 280 Floreca Way, Reno, Nevada 89511, phone (775) 997-3429.

FERC Contact: Joseph Hassell; phone: (202) 502-8079.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14702-000.

More information about this project, including a copy of the application, can be viewed or printed on the “eLibrary” link of Commission's Web site at http://www.ferc.gov/docs-filing/elibrary.asp. Enter the docket number (P-14702) in the docket number field to access the document. For assistance, contact FERC Online Support.

Dated: January 14, 2016.
Nathaniel J. Davis, Sr.,
Deputy Secretary.

[FR Doc. 2016-01123 Filed 1-20-16; 8:45 am]

BILLING CODE 6717-01-P